DEPARTMENT OF HEALTH AND HUMAN SERVICES

Health Resources and Services Administration

Agency Information Collection Activities: Submission for OMB Review; Comment Request

Periodically, the Health Resources and Services Administration (HRSA) publishes abstracts of information requests under review by the Office of Management and Budget (OMB), in compliance with the Paperwork Reduction Act of 1995 (44 U.S.C. Chapter 35). To request a copy of the clearance requests submitted to OMB for review, e-mail paperwork@hrsa.gov or call the HRSA Reports Clearance Officer at (301) 443-1129.

The following request has been submitted to the Office of Management and Budget for review under the Paperwork Reduction Act of 1995:

Proposed Project: Ryan White Treatment and Modernization Act Part A Minority AIDS Initiative Report (the Part A MAI Report). (OMB No. 0915-0304): Extension

HRSA's HIV/AIDS Bureau (HAB) administers Part A of Title XXVI of the Public Health Service Act as amended by Congress in October 2009 (Ryan White HIV/AIDS Treatment Extension Act of 2009). Part A provides emergency relief for areas with substantial need for HIV/AIDS care and support services that are most severely affected by the HIV/AIDS epidemic, including eligible metropolitan areas (EMA) and Transitional Grant Areas (TGAs). As a component of Part A (previously Title I), the purpose of the Minority AIDS Initiative (MAI) Supplement is to improve access to high quality HIV care services and health outcomes for individuals in disproportionately impacted communities of color who are living with HIV disease, including African-Americans, Latinos, Native Americans, Asian Americans, Native Hawaiians and Pacific Islanders (Section 2693(b)(2)(A) of the Public Health Service (PHS) Act). Since the purpose of the Part A MAI is to expand access to medical, health, and social support services for disproportionately impacted racial/ethnic minority populations living with HIV/AIDS, who are not yet in care, it is important that HRSA is able to report on minorities served by the Part A MAI.

The Part A MAI Report is a data collection instrument in which grantees report on the number and characteristics of clients served and services provided. The Part A MAI Report, first approved for use in March 2006, is designed to collect performance data from Part A Grantees that will not change, and it has two parts: (1) a web-based data entry application that collects standardized quantitative and qualitative information, and (2) an accompanying narrative report. Grantees submit two Part A MAI Reports annually: Part A MAI Plan (Plan) and the Part A MAI Year-End Annual Report (Annual Report). The Plan and Annual Report components of the report are linked to minimize the reporting burden, and include drop-down menu responses, fields for reporting budget, expenditure and aggregated client level data, and open-ended responses for describing client or service-level outcomes. Together the Plan and Annual Report components collect information from grantees on MAI-funded services, expenditure patterns, the number and demographics of clients served, and client-level outcomes.

The MAI Plan Narrative that accompanies the Plan Web forms provides (1) an explanation of the data submitted in the Plan Web forms; (2) a summary of the Plan, including the plan and timeline for disbursing funds, monitoring service delivery, and implementing any service-related capacity development or technical assistance activities; and (3) the plan and timeline for documenting client-level outcome measures. In addition, if the EMA/TGA revised any planned services, allocation amounts or target communities after their grant application was submitted, the changes must be highlighted and explained. The accompanying MAI Annual Report Narrative describes (1) progress towards achieving specific goals and objectives identified in the Grantee's approved MAI Plan for that fiscal year and in linking MAI services/activities to Part A and other Ryan White HIV/AIDS Program services; (2) achievements in relation to client-level health outcomes; (3) summary of challenges or barriers at the provider or grantee levels, the strategies and/or action steps implemented to address them, and lessons learned; and, (4) discussion of MAI technical assistance needs identified by the EMA/TGA.

This information is needed to monitor and assess: (1) Changes in the type and amount of HIV/AIDS health care and related services being provided to each disproportionately impacted community of color; (2) the aggregate number of persons receiving HIV/AIDS services within each racial and ethnic community; and (3) the impact of Part A MAI-funded services in terms of client-level and service-level health outcomes. The information also is used to plan new technical assistance and capacity development activities, and inform the HRSA policy and program management functions. The data provided to HRSA does not contain individual or personally identifiable information.

The annual estimated response burden for grantees is as follows:

Form | Estimated number of respondents | Responses per respondent | Total responses | Hours per response | Total burden hours
Part A MAI Report | 56 | 2 | 112 | 5 | 560
Note: Data collection system enhancements have resulted in a shortened response burden (from 6 to 5 total hours per response) for respondents since the previous OMB approval request.

E-mail comments to paperwork@hrsa.gov or mail the HRSA Reports Clearance Officer, Room 10-33, Parklawn Building, 5600 Fishers Lane, Rockville, Maryland 20857. Written comments should be received within 30 days of this notice.

Dated: March 5, 2010.
Sahira Rafiullah,
Director, Division of Policy and Information Coordination.

[FR Doc. 2010-5673 Filed 3-15-10; 8:45 am]

BILLING CODE 4165-15-P